INTERNATIONAL TRADE COMMISSION

[USITC SE-19-003]

Government in the Sunshine Act Meeting Notice

AGENCY HOLDING THE MEETING: United States International Trade Commission.

TIME AND DATE: March 12, 2019 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 701-TA-365-366 and 731-TA-734-735 (Fourth Review)(Certain Pasta from Italy and Turkey). The Commission is currently scheduled to complete and file its determinations and views of the Commission by March 26, 2019.

5. Outstanding action jackets: None.

In accordance with Commission policy, subject matter listed above, not disposed of at the scheduled meeting, may be carried over to the agenda of the following meeting. Earlier announcement of this meeting was not possible.

By order of the Commission.
Issued: February 28, 2019.
William Bishop,
Supervisory Hearings and Information Officer.

[FR Doc. 2019-04003 Filed 3-1-19; 11:15 am]

BILLING CODE 7020-02-P